DEPARTMENT OF COMMERCE

International Trade Administration

[A-570-867]

Automotive Replacement Glass Windshields From the People's Republic of China: Postponement of Preliminary Determination of Antidumping Duty Investigation

AGENCY: Import Administration, International Trade Administration, Department of Commerce.

ACTION: Notice of postponement of preliminary determination of antidumping duty investigation.

EFFECTIVE DATE: September 10, 2001.

FOR FURTHER INFORMATION CONTACT: Rick Johnson at (202) 482-3818; Import Administration, International Trade Administration, U.S. Department of Commerce, 14th Street and Constitution Avenue NW., Washington, DC 20230.

Statutory Time Limits

Section 733(b)(1)(A) of the Tariff Act of 1930, as amended (the Act), requires the Department of Commerce (the Department) to issue the preliminary determination of an antidumping duty investigation within 140 days after the date of initiation. However, if petitioner makes a timely request for an extension of the period within which the determination must be made, section 733(c)(1)(A) of the Act allows the Department to extend the time limit for the preliminary determination until not later than 190 days after the date of initiation.

Background

On March 20, 2001, the Department initiated the above-referenced investigation. See Notice of Initiation of Antidumping Duty Investigation: Automotive Replacement Glass Windshields from the People's Republic of China, 66 FR 16651 (March 27, 2001). On July 17, 2001, the Department postponed the deadline for the preliminary determination to August 31, 2001, pursuant to section 733(c)(1)(B) of the Act. See Automotive Replacement Glass Windshields from the People's Republic of China: Postponement of Preliminary Determination of Antidumping Duty Investigation, 66 FR 38256 (July 23, 2001) (“Postponement Notice”).

Postponement of Preliminary Determination

On August 29, 2001, petitioners made a timely request for a 10-day extension of the period within which the determination must be made in accordance with section 733(c)(1)(A) of the Act. Petitioners noted that the parties in this investigation have made a number of submissions concerning issues which could have a significant impact on the results of the preliminary determination. Further, petitioners noted that the Department's original extension indicated that this investigation involves a “novel product with complex issues related to the * * * appropriate criteria used to define individual models for margin comparison purposes”, among other factors. See Postponement Notice at 38257. Furthermore, petitioners note that since the original extension of the preliminary determination, petitioners have made an allegation of critical circumstances that it must address in the preliminary determination. Therefore, based on petitioners' timely request for an extension in accordance with section 733(c)(1)(A) of the Act, the Department is postponing the deadline for issuing this determination until September 10, 2001.

Dated: August 31, 2001.
Bernard T. Carreau,
Acting Assistant Secretary for Import Administration.

[FR Doc. 01-22655 Filed 9-7-01; 8:45 am]

BILLING CODE 3510-DS-P